DEPARTMENT OF TRANSPORTATION

Federal Aviation Administration

Notice of Intent To Rule on Request To Release Airport Property at the Rialto Municipal Airport, Rialto, CA

AGENCY: Federal Aviation Administration (FAA), Department of Transportation.

ACTION: Notice of Request to Release Airport Property.

SUMMARY: The FAA proposes to rule and invite public comment on the release of land at the Rialto Municipal Airport under the provisions of section 125 of the Wendell H. Ford Aviation Investment Reform Act for the 21st Century (AIR 21).

DATES: Comments must be received on or before September 19, 2008.

ADDRESSES: Comments on this application may be mailed or delivered to the FAA at the following address: Mr. Brian Armstrong, Manager, Federal Aviation Administration, Los Angeles Airports District Office, LAX-600, 15000 Aviation Blvd, Lawndale, CA 90261. In addition, one copy of any comments submitted to the FAA must be mailed or delivered to Richard Scanlan, Director of Aviation and Solid Waste Management, City of Rialto, 150 Palm Avenue, Rialto, CA 92376.

FOR FURTHER INFORMATION CONTACT: Mr. Brian Armstrong, Manager, Federal Aviation Administration, Los Angeles Airports District Office, LAX—600, 15000 Aviation Blvd, Lawndale, CA 90261, Telephone: (310) 725-3644, e-mail: Brian. Armstrong@faa.gov, fax: (310) 725-6849.

SUPPLEMENTARY INFORMATION: The FAA invites public comment on the request to release property at the Rialto Municipal Airport under the provisions of the AIR 21 and Section 4408 of Public Law 109-59. The following is a brief overview of the request:

The Congress of the United States adopted Section 4408 of Public Law 109-59 on August 10, 2005. In part, Section 4408 specifically states; “Notwithstanding any law, regulation or grant assurance, but subject to the requirements of this section, the United States shall release all restrictions, conditions, and limitations on the use, encumbrance, conveyance, or closure of the Rialto Municipal Airport, in Rialto, California, to the extent such restrictions, conditions, and limitations are enforceable by the United States.” This legislation authorized the closure of the Rialto Airport, the transfer of certain assets of the Rialto Municipal Airport, the sale of the Rialto Municipal Airport Properties by the City of Rialto and the distribution of 45% of the fair market value of the local land sales proceeds to the United States for the benefit of a commercial airport complying with the criteria set forth in the legislation. This airport has been identified as the San Bernardino International Airport owned and operated by the San Bernardino International Airport Authority.

The FAA is carrying out the direction of Congress. This notice invites public comment on FAA's intent to rule on the request for release for the Rialto Airport property in its totality. There will be no further public notices published on this matter. However, the FAA intends to process the release in incremental phases. Smaller parcels will be released individually and the entire release will occur over time. The purpose of processing the release, in this fashion, is to allow for the early sale of parcels not currently used for aviation purposes at the Rialto Municipal Airport. This incremental sale will allow the Rialto Municipal Airport to remain open and functional as an airport for a period of time while the proceeds from the early land sales are used for the design and construction of certain general aviation infrastructure and other aviation improvements on the San Bernardino International Airport.

Any person may inspect the request in person, by appointment, at the FAA office listed above under FOR FURTHER INFORMATION CONTACT. In addition, any person may, upon request, inspect the application, notice and other documents relevant to the application in person, by appointment, at the Rialto Municipal Airport, telephone number (909) 820-2622.

Issued in Los Angeles, California, on July 18, 2008.
Mark A. McClardy,
Manager, Airports Division.

[FR Doc. E8-19105 Filed 8-19-08; 8:45 am]

BILLING CODE 4910-13-M